DEPARTMENT OF AGRICULTURE

Rural Business-Cooperative Service

Notice of Funds Availability (NOFA) Invitation for Applications for the Value-Added Agricultural Product Market Development Grant Program (VADG) (Information Resource Center)

AGENCY: Rural Business-Cooperative Service, USDA.

ACTION: Notice.

SUMMARY: The Rural Business-Cooperative Service (RBS) announces the availability of up to $5,000,000 in competitive grant funds for the establishment of a value-added technical resource center. RBS hereby requests proposals from eligible institutions to establish a single pilot project to be known as the Agricultural Marketing Resource Center. This Center will have the capabilities, including electronic, to coordinate and provide information regarding research, business, legal, financial, and logistical assistance to independent producers and processors of value-added agricultural commodities and products of agricultural commodities. The Center will also develop a nationwide market information and coordination system.

DATES: The deadline for receipt of an application is 4:00 p.m. eastern time on April 30, 2001. The application deadline is firm as to date and hour and applies to submission of the original application and two copies to the National Office in Washington, DC. The agency will not consider any application received after the deadline. Comments regarding the information collection requirements under the Paperwork Reduction Act of 1995 must be received on or before May 7, 2001 to be assured of consideration.

ADDRESSES: Send proposals and other required materials to Dr. Thomas H. Stafford, Director, Cooperative Marketing Division, Rural Business-Cooperative Service, USDA, Stop 3252, Room 4204, 1400 Independence Avenue SW., Washington, DC 20250-3252. Telephone: (202) 690-0368, E-Mail: thomas.stafford@usda.gov.

FOR FURTHER INFORMATION CONTACT: Dr. Thomas H. Stafford, Director, Cooperative Marketing Division, Rural Business-Cooperative Service, USDA, STOP 3252, Room 4202, 1400 Independence Ave. SW., Washington, DC 20250-3252. Telephone (202) 690-0368, Facsimile (202) 690-2723, E-mail: thomas.stafford@usda.gov. You may also obtain information from the RBS website at: http://www.rurdev.usda.gov/rbs/coops/vadg.htm.

SUPPLEMENTARY INFORMATION:

Background

This solicitation is issued pursuant to section 231 of the Agriculture Risk Protection Act of 2000 authorizing the establishment of the Value-Added Agricultural Product Market Development grants. The Secretary of Agriculture has delegated the program's administration to USDA's Rural Business-Cooperative Service (RBS) for the fiscal year ending September 30, 2001. The Rural Business-Cooperative Service (RBS) was established by the Department of Agriculture Reorganization Act of 1994. The mission of RBS is to improve the quality of life in rural America by financing businesses, providing technical assistance, and creating effective strategies for rural development.

The primary objective of this program is to establish a pilot project to be known as the Agricultural Marketing Resource Center. This Center will have the capabilities, including electronic capabilities, to collect, disseminate, coordinate, and provide information on value-added processing to independent producers and processors of value-added agricultural commodities and products of agricultural commodities. This includes information on value-added research, business operations, legal issues, financial issues, and logistical assistance. The Center will also develop a strategy to establish a nationwide market information and coordination system.

A single grant will be awarded on a competitive basis to an eligible institution as defined in this NOFA based on specific selection criteria. Parts 3015 and 3019 of 7 CFR will be applicable to this program.

This grant program has a matching funds requirement. Applicants must provide matching funds at least equal to the grant. Grant funds will be disbursed pursuant to relevant provisions of 7 CFR parts 3015 and 3019, as applicable. Matching funds must be used to support the overall purpose of the VADG program.

All forms required to apply are available from the Cooperative Services Program web-site at http://www.rurdev.usda.gov/rbs/coops/vadg.htm, by calling (202) 690-0368, or faxing (202) 690-2723. Forms may also be requested via the internet by sending a message with your name, mailing address (not e-mail), and phone number to thomas.stafford@usda.gov. When calling or e-mailing, please indicate you are requesting forms for fiscal year FY 2001 (FY 2001) Value-Added Product Market Development Grant Program. Forms will be mailed to you (not e-mailed or faxed) as quickly as possible.

Definitions

Agency—The Rural Business-Cooperative Service (RBS) or its successor.

Agricultural Product—Plant and animal products and their by-products, including aquaculturally produced fish and seafood products and forestry products.

Business Plan—A description of economic activities that will lead to a potential viable value-added venture including feasibility studies, marketing plans, business operations plans, and legal evaluations.

Center—The Agricultural Marketing Resource Center which is to be established and operated by the grantee to work with independent producers and processors on value-added ventures.

Independent Producers—Agricultural producers, including associations of producers and producer-owned corporations, who do not produce the agricultural product under contract or joint ownership with any other organization.

Matching Funds—Cash or confirmed funding commitments from non-Federal sources. Matching funds must be at least equal to the grant amount. In-kind contributions as defined in 7 CFR part 3015, subpart G and 7 CFR section 3019.23 can be used as matching funds. Examples of in-kind contributions include volunteer services furnished by professional and technical personnel, donated supplies and equipment, and donated office space.

Non-Profit Corporation or Institution—Any organization or institution, including an accredited institution of higher education, no part of the net earnings of which inures, or may lawfully inure, to the benefit of any private shareholder or individual.

Public Body—Any state, county, city, township, incorporated town or village, borough, authority, district, economic development authority, or Indian tribe on Federal or state reservations or other federally recognized tribe.

Technical Assistance—Development activities to ensure that a successful value-added venture is organized. These activities include, but are not limited to, conducting feasibility, environmental, and other essential studies, or preparing business, marketing, and other plans for independent agricultural producers wishing to enter into value-added activities.

Value-Added—Changes in the raw or partly processed agriculturally produced commodity that result in a product having a higher value to potential buyers. Examples include processing wheat into flour, slaughtering livestock or poultry, further processing of meat and poultry products, or collecting and converting methane from animal waste to generate energy.

VADG—Value-Added Agricultural Product Market Development Grant Program.

Recipient Eligibility Requirements

A grant may be made to a nonprofit corporation or institution, including an accredited institution of higher education, that demonstrates the capacity and technical expertise to provide assistance to independent producers, an established plan outlining support of the applicant in the agricultural community, and the availability of resources (in cash or in-kind) of definite value to sustain the Center following establishment. Grants may not be made to public bodies. Trade associations are not eligible recipients.

Proposal Preparation

A proposal should contain the following:

(1) Standard Form 424, “Application for Federal Assistance.”

(2) Standard Form 424A, “Budget Information—Non-Construction Programs.”

(3) Standard Form 424B, “Assurances—Non-Construction Programs.”

(4) Table of Contents. For ease of locating information, each proposal must contain a detailed Table of Contents immediately following the required forms. The Table of Contents should include page numbers for each component of the proposal. Pagination should begin immediately following the Table of Contents.

(5) Proposal Summary. A summary of the Proposal, not to exceed one page, should include the following: description of the proposed Center; types of projects to be undertaken; and names of the individuals responsible for conducting and completing the work of the Center.

(6) Proposal Narrative. The narrative portion of the project proposal must include at least the following:

(i) Information sheet. A separate one-page information sheet, which lists each of the seven evaluation criteria listed in this NOFA under the “Evaluation Criteria and Weights” section, followed by the page numbers of all relevant material and documentation contained in the proposal which addresses or supports that criteria.

(ii) Goals of the Center. A clear statement of the ultimate goals of the proposed Center must be presented.

(iii) Specific Tasks to Be Performed by the Center. The narrative must describe the specific tasks that the Center will perform in collecting and disseminating information on value-added research, business operations, legal issues, financial issues, and logistical assistance related to value-added processing and in developing a strategy to establish a nationwide market information and coordination system.

(iv) Evaluation Criteria. Each of the seven evaluation criteria listed in the Evaluation Criteria and Weights section of this NOFA must be addressed specifically and individually by category. Present these criteria in narrative form with any supporting documentation.

(7) Verification of Matching Funds. For cash you should provide a copy of a bank statement. Otherwise, you should provide a copy of the confirmed funding commitment from the funding source.

(8) Budget. A detailed breakdown of estimated costs and a project budget.

Grant Amounts

The amount of grant funds for the Center in FY 2001 will not exceed $5,000,000.

Eligible Grant and Matching Fund Uses

Grant funds may be used to pay up to 50 percent of the cost of establishing the Center, including the collection of information the Center will disseminate to independent producers and processors of value-added agricultural commodities and products of agricultural commodities. The applicant's funding match may be either in cash or in-kind contributions in accordance with 7 CFR parts 3015 and 3019 and must be from non-Federal sources. Grant and matching funds may be used for, but are not limited to, the following purposes:

1. Activities to develop the Center's capacity to collect, interpret and disseminate principles, facts, technical knowledge, or other information that may be useful to independent agricultural producers or processors wishing to enter into value-added activities.

2. Activities to develop a market information sharing and coordination system.

3. Activities to develop training and instructional materials for independent agricultural producers wishing to enter into value-added activities.

4. Activities to develop resources concerning principles of organizing value-added enterprises, facts, and other information concerning the business, economic, and technical nature of value-added activities.

Ineligible Grant and Matching Fund Uses

Grant and matching funds cannot be used to:

1. Plan, repair, rehabilitate, acquire, or construct a building or facility (including a processing facility);

2. purchase, rent, or install fixed equipment;

3. repair or maintain privately owned vehicles;

4. pay for the preparation of the grant application;

5. fund political activities;

6. pay costs incurred prior to receiving this grant;

7. fund any activities prohibited in 7 CFR parts 3015 and 3019, as applicable; or

8. fund the Center's continuing operation.

Funds from this grant and the recipient's matching funds cannot be used for the architectural or engineering design work for the physical facility that are often part of the project feasibility studies.

Methods for Evaluating and Ranking Applications

RBS will review all applications for conforming to the requirements of this NOFA. Applications that fall within the guidelines of this NOFA will then be evaluated by a panel of agricultural economists and other technical experts appointed by RBS. Applications will be evaluated competitively and points awarded as specified in the Evaluation Criteria and Weights section of this NOFA. After assigning points upon those criteria, the application with the highest ranking will be awarded the grant.

Evaluation Criteria and Weights

RBS will initially determine whether the submitting organization is eligible and whether the application contains the information required by this NOFA. Prior to technical examination, each proposal will be reviewed for responsiveness to the funding solicitation. Submissions that do not meet the guidelines stated in this NOFA will be eliminated from the competition and will be returned to the applicant. After this initial screening, RBS will use the following criteria to rate and rank proposals received in response to this NOFA. Failure to address any of the following criteria will disqualify the proposal:

1. Nature of the Center's operations (Maximum 20 points). Describe in detail the operation of the Center including the specific tasks to be performed. Demonstrate how and where information will be collected, processed, stored, and disseminated (print and electronic). Describe in detail relevant experience in collecting and distributing research information on business principles and operations, legal activities, financial matters, and logistical methodologies. Describe in detail what type of electronic capabilities the Center will adopt. Proposals will be evaluated under this criteria for their overall ability to maximize (1) the utility of the information to be provided, (2) its accessibility, (3) its comprehensiveness to the user, and (4) the level of personal assistance provided by the Center.

2. Ability and experience in producer and producer group outreach (maximum 20 points). Describe in detail your experience in reaching producers and producer groups with the kind of information that would be provided by the Center. This includes mechanisms for promoting the Center's products and services, methods of interacting with stakeholders, and ways of obtaining feedback from producers and producer groups about information products and services received.

3. Experience in developing an electronic market information and coordination system (Maximum 15 points). Describe in detail relevant experience in developing and operating electronic market information and coordinating systems including web page design and maintenance, on-line transactions, and other relevant activities.

4. Qualifications of the personnel performing the tasks; and a demonstrated track-record of performing activities similar to those being proposed (maximum 15 points). Describe in detail qualifications of the in-house staff who will actually do the proposed tasks and provide resumes and information about their organizations. If a consultant or others are to be hired, include a statement as to their commitment, as well as their qualifications.

5. A sound plan of work incorporating the appropriate tasks to establish the Agricultural Marketing Resource Center (maximum 10 points). Describe in detail your plan of work to establish the Center. This plan must provide a “road map” for establishing the Center from start to finish. This includes time tables, project benchmarks, and the evaluation procedures used to determine the success of the effort.

6. Amount and type of linkages within the agriculture community (Maximum 10 points). Describe in detail the types of linkages and support the applicant has from the agriculture community, including development organizations, cooperatives, and other agribusinesses. Discuss the nature of these relationships and any joint activities with them.

7. Amount and type of resources to sustain the Center once established (Maximum 10 points). Described in detail the various sources of funding and in-kind support available to the applicant to sustain operations once the Center has been established and grant funding exhausted. Discuss how the Center will retain its in-house expertise after grant funds are exhausted.

What and Where To Submit

An original and two copies of the proposal, with all required forms and documentation, must be submitted in one package to: Dr. Thomas H. Stafford, Director, Cooperative Marketing Division, Rural Business-Cooperative Service, USDA, Stop 3252, Room 4204, 1400 Independence Avenue SW, Washington, D.C. 20250-3252. Applications sent electronically or by facsimile will not be accepted.

When To Submit

The deadline for receipt of an application is 4:00 p.m. eastern time on April 30, 2001. The application deadline is firm as to date and hour and applies to submission of the original application and two copies to the National Office in Washington, DC. The Agency will not consider any application received after the deadline.

Grantee Requirements

The grantee will be required to do the following.

1. Sign a Value-Added Agricultural Product Market Development Grant Agreement acceptable to RBS.

2. Sign required Federal grant making forms.

3. Use Standard Form 270, “Request for Advance or Reimbursement” to request advances and reimbursements.

4. Submit a Standard Form 269, “Financial Status Report” and list expenditures according to agreed upon budget categories on a quarterly basis starting with the first full quarter after the grant award.

5. Submit quarterly performance reports which compare accomplishments to the objectives; if established objectives are not met, the report must discuss problems or delays that may affect completion of the project, establish objectives for the next reporting period; and discuss compliance with any special conditions on the use of awarded funds.

6. Maintain a financial management system that is acceptable to the Agency.

7. Collect and maintain data provided by the independent producers on race, sex, and national origin.

8. Submit a final project performance report.

Other Federal Statutes and Regulations That Apply

Several other Federal statutes and regulations apply to proposals considered for review and to the grant awarded. These include, but are not limited to:

7 CFR part 15, subpart A—Nondiscrimination in Federally Assisted Programs of the Department of Agriculture—Effectuation of Title VI of the Civil Rights Act of 1964.

7 CFR part 3015—Uniform Federal Assistance Regulations.

7 CFR part 3017—Governmentwide Debarment and Suspension (Nonprocurement) and Governmentwide Requirements for Drug-Free Workplace (Grants).

7 CFR part 3018—New Restrictions on Lobbying.

7 CFR part 3019—Uniform Administrative Requirements for Grants and Agreements with Institutions of Higher Education, Hospitals, and Other Non-Profit Organizations.

7 CFR part 3052—Audits of States, Local Governments, and Non-Profit Organizations.

Paperwork Reduction Act

The reporting requirements contained in this NOFA have received temporary emergency clearance by the Office of Management and Budget (OMB) under Control Number 0570-0040. However, in accordance with the Paperwork Reduction Act of 1995, RBS will seek standard OMB approval of the reporting requirements contained in this NOFA. Comments should be submitted within 60 days of May 7, 2001.

Abstract: RBS, an Agency within the USDA Rural Development mission area, will administer the VADG program. The primary objective of this program is to establish the Agricultural Marketing Resource Center. This Center will have the capabilities, including electronic capabilities, to coordinate and provide to independent producers and processors of value-added agricultural commodities and products of agricultural commodities information on value-added research, business operations, legal issues, financial issues, and logistical assistance related to value-added processing. The Center will also develop a strategy to establish a nationwide market information and coordination system.

Public Burden in This NOFA

At this time, the Agency is requesting OMB clearance of the following burden:

Standard Form 424 “Application for Federal Assistance.”

This form is used by applicants as a required face sheet for applications for Federal assistance.

Standard Form 424A “Budget Information—Non-construction Programs.”

This form must be completed by applicants to show the project's budget breakdown, both as to expense categories and the division between Federal and non-Federal sources.

Standard Form 424B “Assurances—Non-Construction Programs.”

This form must be completed by the applicant to give the Federal government certain assurances that the applicant has the legal authority to apply for Federal assistance and the financial capacity to pay the non-Federal share of project costs. The applicant also gives assurance it will comply with various legal and regulatory requirements as described in the form.

The grant awardee will be required to do the following.

1. Sign a Value-Added Agricultural Product Market Development Grant Agreement acceptable to RBS.

2. Use Standard Form 270, “Request for Advance or Reimbursement” to request advances and reimbursements.

3. Submit a Standard Form 269, “Financial Status Report” and list expenditures according to agreed upon budget categories on a quarterly basis starting with the first full quarter after the grant award.

4. Submit quarterly performance reports which compares accomplishments to the objectives. If established objectives are not met, discuss problems, delays, or other problems that may affect completion of the project; establish objectives for the next reporting period; and discuss compliance with any special conditions on the use of awarded funds.

5. Maintain a financial management system that is acceptable to the Agency.

6. Collect and maintain data provided by the independent producers on race, sex, and national origin.

7. Submit a final project performance report.

Project Proposal

The applicant must submit a project proposal containing the elements described in this NOFA and in the format prescribed. The elements of the proposal are: (1) Table of Contents providing page numbers for each component of the proposal; (2) a project Summary, not to exceed one page, that includes a description of the project and the names of individuals working on the project; and (3) a project narrative that discusses the goals of the Center, the specific tasks to be performed, and the seven criteria which are the basis for selection for funding.

Project Reporting Requirements

The grant Awardee will be required to submit written performance reports on a quarterly basis. The performance report shall include, but need not be limited to: (1) A comparison of actual accomplishments to the objectives; (2) if objectives were not met, reasons why they were not; (3) problems, delays, or adverse conditions which will materially affect attainment of planned project objectives; (4) objectives established for the next reporting period; and (5) status of compliance with any special conditions on the use of awarded funds.

Estimate of Burden: Public reporting burden for this collection of information is estimated to average 13 hours per response.

Respondents: Non-profit corporations and institutions of higher education.

Estimated Number of Respondents: 40.

Estimated Number of Responses per Respondent: 1.2.

Estimated Number of Responses: 48.

Estimated Total Annual Burden on Respondents: 628 hours.

Copies of this information collection can be obtained from Cheryl Thompson, Regulations and Paperwork Management Branch, (202) 692-0043.

Comments

Comments are invited on: (a) Whether the proposed collection of information is necessary for the proper performance of the functions of the Agency, including whether the information will have practical utility; (b) the accuracy of the Agency estimate of the burden of the proposed collection of information, including the validity of the methodology and assumptions used; (c) ways to enhance the quality, utility, and clarity of the information to be collected; and (d) ways to minimize the burden of the collection of information on those who are to respond, including the use of appropriate automated, electronic, mechanical, or other technological collection techniques or other forms of information technology.

All responses to this NOFA will be summarized and included in the request for OMB approval. All comments will also become a matter of public record. Comments on the paperwork burden may be sent to Cheryl Thompson, Regulations and Paperwork Management Branch, Rural Development, U.S. Department of Agriculture, Stop 0742, 1400 Independence Avenue SW., Washington, DC 20250-0742.

Dated: February 26, 2001.
William F. Hagy III,
Acting Administrator, Rural Business-Cooperative Service, United States Department of Agriculture.

[FR Doc. 01-5372 Filed 3-5-01; 8:45 am]

BILLING CODE 3410-XY-P